NATIONAL ARCHIVES AND RECORDS ADMINISTRATION

36 CFR Part 1200

RIN 3095-AB12

Official Seals

AGENCY: National Archives and Records Administration (NARA).

ACTION: Proposed rule.

SUMMARY: The National Archives and Records Administration (NARA) is proposing to revise its regulations on the NARA official seals. This proposal adds our criteria for approving and denying requests submitted by the public and other Federal agencies to use our official seals. It also proposes to require more detailed facts in written requests and includes NARA's conditions for use if a request is approved. This part has been rewritten in plain language format and applies to the public and other Federal agencies.

DATES: Comments are due by September 16, 2002.

ADDRESSES: Comments must be sent to Regulation Comments Desk (NPOL), Room 4100, Policy and Communications Staff, National Archives and Records Administration, 8601 Adelphi Road, College Park, MD 20740-6001. They may be faxed to 301-837-0319. You may also comment via the Internet to comments@nara.gov. See the SUPPLEMENTARY INFORMATION section for additional instructions on submitting e-mail comments.

Comments on the information collection contained in this proposed rule should also be sent to the Office of Management and Budget, Office of Information and Regulatory Affairs, Attn: Brooke Dickson, NARA Desk Officer, via fax or e-mail to bdickson@omb.eop.gov.

FOR FURTHER INFORMATION CONTACT: Kim Richardson at telephone number 301-837-2902 or fax number 301-837-0319.

SUPPLEMENTARY INFORMATION: NARA's three official seals are the National Archives and Records Administration seal; the National Archives seal; and the National Archives Trust Fund Board seal. The official seals are used to authenticate various copies of official records in our custody and for other official NARA business. Occasionally, when criteria are met, we will permit the public and other Federal agencies to use our official seals. A written request must be submitted to use the official seals, which we approve or deny using specific criteria. We are proposing to add our criteria for approval as follows:

• The first criterion is that NARA must be participating in the event or activity by providing speakers, space, or other similar services (examples: NARA co-sponsoring a symposium or conference).

• The second criterion for approval is the seal's proposed use must not imply NARA's endorsement of a commercial product or service or of the user's policies or activities. NARA, as a Federal agency, cannot promote or endorse, directly or indirectly, any of the above mentioned activities.

We are also proposing to require more detailed facts in written requests. Detailed and accurate requests enable us to make determinations that do not compromise our provisions for using the official seals as stated in these regulations.

We also propose to add conditions for use if the request is approved. The conditions include that the seal must only be used for the specific purpose for which approval is granted, the approval must not be delegated without our prior approval, and the seal itself must not be altered.

This part has been rewritten in plain language format and applies to the public and other Federal agencies.

Information Collection Subject to the Paperwork Reduction Act

The proposed information collection in § 1200.10, the written request, is subject to the Paperwork Reduction Act. Under this Act, no persons are required to respond to a collection of information unless it displays a valid OMB control number. The control number for this information collection will be assigned by OMB. NARA invites comments on this proposed information collection. Comments should be addressed to NARA and OMB (see ADDRESSES).

The proposed information collection in § 1200.10 is designed to assist NARA in determining whether to approve requests to use our official seals. It affects the public and other Federal agencies that are requesting to use our official seals. We estimate that we will receive five requests per year from five respondents and that the respondent burden to provide the information will be 20 minutes per request, for a total burden of one hour and 40 minutes.

E-mail Comments

Please submit e-mail comments within the body of your e-mail message or as an attachment. Please also include “Attn: 3095-AB12” and your name and return address in your Internet message. If you do not receive a confirmation that we have received your e-mail message, contact the Regulation Comment Desk at 301-837-2902.

This proposed rule is not a significant regulatory action for the purposes of Executive Order 12866 and has not been reviewed by the Office of Management and Budget. As required by the Regulatory Flexibility Act, I certify that this proposed rule will not have a significant impact on a substantial number of small entities. This regulation does not have any federalism implications.

List of Subjects in 36 CFR Part 1200

Seals and insignia.

For the reasons set forth in the preamble, NARA proposes to revise part 1200 of title 36, Code of Federal Regulations, to read as follows:

PART 1200—OFFICIAL SEALS

Subpart A—General
Sec.
1200.1 Definitions.
Subpart B—How are NARA's Official Seals Designed and Used?
1200.2 How is each NARA seal designed?
1200.4 How does NARA use its official seals?
1200.6 Who is authorized to apply the official seals on documents or other materials?
Subpart C—Procedures for the Public to Request and Use NARA Seals
1200.8 How do I request to use the official seals?
1200.10 What are NARA's criteria for approval?
1200.12 How does NARA notify me of the determination?
1200.14 What are NARA's conditions for the use of the official seals?
Subpart D—Penalties for Misuse of NARA Seals
1200.16 Will I be penalized for misusing the official seals?

Authority: 18 U.S.C. 506 and 1017; 44 U.S.C. 2104(e), 2116(b), 2302.

Subpart A—General

§ 1200.1 Definitions.

The following definitions apply to this part:

Embossing seal means a display of the form and content of the official seal made on a die so that the seal can be embossed on paper or other medium.

NARA means all organizational units of the National Archives and Records Administration.

Official seal means the original(s) of the seal showing the exact form and content.

Replica or reproduction means a copy of the official seal displaying the form and content.

Subpart B—How Are NARA's Official Seals Designed and Used?

§ 1200.2 How is each NARA seal designed?

NARA's three official seals are illustrated in Figures 1, 2, and 3. A description of each seal is as follows:

(a) The National Archives and Records Administration seal. The design is illustrated below in Figure 1 and described as follows:

(1) The seal is centered on a disc with a double-line border.

(2) The words “NATIONAL ARCHIVES AND RECORDS ADMINISTRATION” encircle the inside of the seal and the date 1985 is at the bottom center.

(3) A solid line rendition of a heraldic eagle displayed holding in its left talon 13 arrows, in its right talon a branch of olive, bearing on its breast a representation of the shield of the United States.

(4) Displayed above the eagle's head is a partially unrolled scroll inscribed with the words “LITTERA SCRIPTA MANET” one above the other.

(b) National Archives seal. The design is illustrated below and described as in paragraph (a) of this section. However, the words “THE NATIONAL ARCHIVES OF THE UNITED STATES” encircle the inside of the seal and the date 1934 is at the bottom center.

(c) National Archives Trust Fund Board seal. The design is illustrated below and described as in paragraph (a) of this section. However, the words “NATIONAL ARCHIVES TRUST FUND BOARD” encircle the inside of the seal and the date 1941 is at the bottom center.

§ 1200.4 How does NARA use its official seals?

NARA uses its three official seals to authenticate various copies of documents and for informational purposes as follows:

(a) The National Archives and Records Administration seal, dated 1985, is used:

(1) For official business, e.g., stationery;

(2) To authenticate copies of Federal records in NARA's temporary custody and copies of NARA operational records; and

(3) For informational purposes with NARA's prior approval (includes use by NARA employees, the public, and other Federal agencies).

(b) The National Archives seal, dated 1934, is used to authenticate copies of documents in NARA's permanent legal custody.

(c ) The National Archives Trust Fund Board seal, dated 1941, is used for Trust Fund documents and publications.

§ 1200.6 Who is authorized to apply the official seals on documents or other materials?

The Archivist of the United States (and the Archivist's designee) is the only individual authorized to apply NARA official seals, embossing seals, and replicas and reproductions of seals to appropriate documents, authentications, and other material. NARA accepts requests to use the official seals and approves or denies them based on the criteria identified in § 1200.10.

Subpart C—Procedures for the Public to Request and Use NARA Seals

§ 1200.8 How do I request to use the official seals?

You may only use the official seals if NARA approves your written request. Follow the procedures in this section to request authorization.

(a) Prepare a written request explaining, in detail:

(1) The name of the individual/organization requesting use and how it is associated with NARA;

(2) Which of the three official seals you want to use and how or on what it is going to be displayed. Provide a sample of the document or other material on which the seal is intended to appear. Mark the sample in all places where the seal would be displayed;

(3) How the intended use of the official seal is connected to your work with NARA on an event or activity (example: requesting to use the official NARA seal on a program brochure, poster, or other publicity announcing a co-sponsored symposium or conference.); and

(4) The dates of the event or activity for which you intend to display the seal.

(b) You must submit the request at least six weeks before you intend to use it to the Archivist of the United States (N), 8601 Adelphi Rd., College Park, MD 20740-6001.

(c) The OMB control number ____ has been assigned to the information collection contained in this section.

§ 1200.10 What Are NARA's criteria for approval?

NARA's criteria for approval are as follows:

(a) NARA must be participating in the event or activity by providing speakers, space, or other similar services (example: NARA co-sponsoring a symposium or conference).

(b) The seal is not going to be used on any article or in any manner that reflects unfavorably on NARA or endorses, either directly or by implication, commercial products or services, or a requestor's policies or activities.

§ 1200.12 How does NARA notify me of the determination?

NARA will notify you by mail of the final decision, usually within 3 weeks from the date we receive your request. If NARA approves your request, we will send you a camera-ready copy of the official seal along with an approval letter that will:

(a) Reference back to the submitted request (either through the date or another distinguishing characteristic) indicating approval of the specific use, as defined in the request; and

(b) Include NARA's conditions for use, which are identified in § 1200.14.

§ 1200.14 What are NARA's conditions for the use of the official seals?

If your request is approved, you must follow these conditions:

(a) Use the official seal only for the specific purpose for which approval was granted;

(b) Submit additional written requests for any uses other than the use granted in the approval letter;

(c) Do not delegate the approval to another individual(s) or organization without NARA's prior approval; and

(d) Do not change the official seals themselves. They must visually and physically appear as illustrated in § 1200.2, with no alterations.

(e) Only use the official seal for the time period designated in the approval letter (example: for the duration of a conference or exhibit).

Subpart D—Penalties for Misuse of NARA Seals

§ 1200.16 Will I be penalized for misusing the official seals?

(a) If you falsely make, forge, counterfeit, mutilate, or alter official seals, replicas, reproductions or embossing seals, or knowingly use or possess with fraudulent intent any altered seal, you are subject to penalties under 18 U.S.C. 506.

(b) If you use the official seals, replicas, reproductions, or embossing seals in a manner inconsistent with the provisions of this part, you are subject to penalties under 18 U.S.C. 1017 and to other provisions of law as applicable.

Dated: July 8, 2002.
John W. Carlin,
Archivist of the United States.

[FR Doc. 02-17962 Filed 7-16-02; 8:45 am]

BILLING CODE 7515-01-P